ENVIRONMENTAL PROTECTION AGENCY

[FRL-7006-6]

Final Information Products Bulletin Framework Plan

AGENCY: Environmental Protection Agency (EPA).

ACTION: Notice.

SUMMARY: The Information Products Bulletin (IPB) is a new joint effort between the U.S. Environmental Protection Agency (EPA) and The Environmental Council of the States (ECOS). The purpose of this framework plan is to outline the basis and scope of the IPB. The IPB will be launched in Summer 2001 and will be updated every four months, both in hard copy and on the World Wide Web. It will inform stakeholders and the public about upcoming significant information products being produced by EPA and some of the states. This will include, in some cases, the identification of opportunities for stakeholder and public involvement in the development of such products.

ADDRESSES: U.S. Environmental Protection Agency, Office of Environmental Information/Office of Information Analysis and Access, Mail Code: 2843, 1200 Pennsylvania Avenue, NW., Washington, DC 20460.

FOR FURTHER INFORMATION CONTACT: For further information about the Information Products Bulletin (IPB), please contact the EPA's Office of Information Analysis and Access/Information Access Division at (202) 260-2846, Fax: 202-401-1315.

SUPPLEMENTARY INFORMATION:

Table of Contents

I. What is the Information Products Bulletin?

II. Changes Since Draft Framework Plan

III. Background on Creation of the IPB

IV. Criteria for Including and Excluding Products

V. State Products

VI. Stakeholder and Public Involvement Opportunities

VII. IPB Archive and Notification of Product Releases

VIII. Legal Status

IX. IPB Publication Schedule

X. Evaluation of IPB

XI. Response to Comments on the Draft IPB Framework Plan

I. What Is the Information Products Bulletin?

The Information Products Bulletin (IPB) is a joint effort between the U.S. Environmental Protection Agency (EPA) and the Environmental Council of the States (ECOS) to inform stakeholders and the public about upcoming significant information products being produced by EPA and states. ECOS is the national nonprofit, nonpartisan association of state and territorial environmental commissioners. EPA and the states are committed to ensuring that the significant information products we produce are accurate and useful, and that we clearly characterize the data incorporated into these products.

The Information Products Bulletin will:

• Notify interested parties about significant information products under development or major modification by EPA and some states.

• Alert stakeholders and the public about opportunities to provide input regarding the development of some significant information products.

• Be launched in Summer 2001 and will be updated every four months.

• Be available on the Web, as well as in hard copy for those who do not have access to the Internet.

The IPB is NOT intended to provide a comprehensive list of the information products that EPA or states have already completed and released to the public.

EPA has already developed an interim IPB Web site. It is not as detailed as the full IPB will be and does not include information about stakeholder or public involvement opportunities for individual products. You can view the interim IPB Web site at [www.epa.gov/ipbpages].

II. Changes Since Draft Framework Plan

A draft IPB Framework Plan was published in the Federal Register on November 30, 2000 (65 FR 71314). EPA received comments from five organizations and individuals. This final Framework Plan reflects changes made in response to the comments submitted, as well as editorial changes made to clarify the purpose and scope of the IPB. A Response to Comments document is included at the end of this Framework Plan.

III. Background on Creation of the IPB

Each year, EPA and the states produce information products for the general public that are derived from federal, state, local, tribal or other organizations' data. These products may include analyses and/or draw conclusions about primary data in order to describe environmental conditions, trends, potential risks, and/or the performance of companies, facilities and communities.

In November 1999, EPA and the Environmental Council of the States (ECOS) met with representatives from states, tribes, industry, environmental and public interest groups to discuss issues regarding public access to information products. The IPB was initiated as an outgrowth of discussions that took place at that meeting. It is one of several efforts by EPA and the states to advance the creation and use of data to enhance public health and environmental protection, inform decision-making, and improve the public's access to information about environmental conditions and trends. Informing the public and providing access to sound environmental information, in formats that meet the needs of major stakeholders and the public, are essential components of a comprehensive environmental protection program. The IPB is intended to notify the public of “significant information products” under development, and identify opportunities for stakeholder and public involvement during the development of certain products. The IPB is not intended to be the initial or primary notification device for informing state co-regulators about significant new products.

IV. Criteria for Including and Excluding Products

The IPB includes a description of the upcoming significant information products being produced by EPA and some states. Only those products currently under development that meet the following definition of a “significant information product” will be included in the IPB:

A “significant information product” uses national or regional data to describe environmental conditions, trends, and/or the performance of companies, facilities and communities.

In addition, the following criteria have been developed for determining which products developed by EPA and the states will be included in the IPB:

• Products that analyze and/or compare data collected by, acquired by, or directly reported to EPA or states from various agencies and organizations, including industry, as well as various federal, state, tribal and local agencies;

• Significant data collected by, acquired by, or directly reported to EPA or states from various agencies and organizations that EPA or the states have not interpreted or analyzed;

• Products produced by one or more state environmental agencies that are regional or national in scope and aggregate data from more than one state;

• Products that apply to a large segment of the population or large geographic area;

• Models used by the public to perform environmental analyses based upon data from various agencies and organizations; and

• Annual reports and other products released on a regular basis that use national or regional data to describe environmental conditions, trends, and/or the performance of companies, facilities and communities.

The following are examples of the kind of products that meet the definition of “significant information product” and would be listed in the IPB while under development or major modification:

Sector Facility Indexing Project (SFIP)—a community-right-to-know and data integration project that provides environmental performance data for facilities within several industry sectors.

National-Scale Air Toxics Assessment (NATA)—characterizes the potential health risks associated with inhalation exposures for 33 priority toxic air pollutants.

Water Quality Standards Database (WQSDB)—an integration of Geographical Information Systems (GIS) and relational database technologies employed to deliver information on specific water bodies in 20 states (to be expanded to all U.S. states and territories in the future).

The following are the kinds of products that will not be included in the IPB, because they either: (1) Do not meet the definition of a significant information product, (2) are used for internal purposes only, and/or (3) must be released immediately to protect human health:

• Action plans

• Analytic tools used exclusively for internal purposes by EPA

• Announcements

• Annual reports that provide only broad, general information, program descriptions and/or accomplishments

• Brochures

• Chemical alerts

• Citizen guides

• Compliance guides

• Conference summaries

• Fact sheets

• Information describing environmental threats that must be released immediately in order to protect public health

• Journal articles

• Policy statements

• Press releases

• Products produced by organizations or agencies other than EPA that are funded through EPA grants or cooperative agreements

• Rulemakings and supporting documents (including guidance, directives, studies, etc.)

• Strategies, strategic plans

• Training materials

The criteria and types of products listed above regarding which products will and will not be included in the IPB are not exhaustive.

V. State Products

The IPB will include some significant information products produced by the states and territories. Such products will be regional or national in scope, including aggregated data from more than one state. EPA might include products about one state, if the product is a prototype or concerns national issues, or the data reflect national or regional environmental conditions, risks, and/or trends.

VI. Stakeholder and Public Involvement Opportunities

For purposes of the IPB, “stakeholders” refers to individuals who represent groups or specific segments of the public with a vested interest in the development and use of a significant information product. In many cases, stakeholders may be directly affected by the use of such a product. “Public involvement” refers to soliciting input and feedback from members of the public in the development of EPA and state products and policies. “Stakeholder involvement” refers to soliciting input and feedback from stakeholders, as described above. Stakeholder involvement primarily includes representatives of industry sectors, communities, government agencies and non-governmental organizations (NGOs).

For further information on EPA policies regarding stakeholder and public involvement, please refer to the EPA report released in December 2000, entitled: Engaging the American People: A review of EPA's Public Participation Policy and Regulations with Recommendations for Action. The report can be viewed at www.epa.gov/stakeholders/policy.htm. EPA is also revising its 1981 Public Participation Policy for release in 2001.

How Will the IPB Affect EPA's and States' Current Stakeholder and Public Involvement Processes?

The IPB will provide pre-publication notification of significant information products being developed by the EPA, as well as some states. The IPB also identifies opportunities for stakeholders and the public to provide input into the development of some of these products. Procedures have already been established for obtaining stakeholder and public input for significant information products. The IPB will not replace or duplicate existing stakeholder or public involvement processes associated with the development of EPA or state products. What the IPB does is identify existing stakeholder and public involvement processes that are currently underway or are planned for certain products.

It should be noted that it may not be useful or appropriate to provide an opportunity for stakeholder or public input for some products on the IPB list. Examples of such products are those produced on a routine or annual basis, or those that are technical, science-based documents that undergo a rigorous peer review process.

How Does the Stakeholder and Public Involvement Process Work?

Stakeholders and the public can become involved in the development of significant information products in different ways, depending upon the individual product. Various methods are described in Table 1 and 2 below. In considering which method(s) to use for any given product, EPA and states must consider the purpose of producing the product and the target audience, as well as available resources, time frame, and other possible limitations. For example, it might be more suitable to obtain stakeholder and public input through face-to-face meetings. In other cases, one or more electronic communication methods may reach a wider interested audience, and thus be a more effective means of getting feedback. EPA and the states often use a combination of stakeholder and public involvement methods.

Table 1 below shows methods that EPA and the states use to present information on upcoming significant information products to stakeholders and the public. Table 2 below describes methods that EPA and many states use to collect comments on a specific product under development. Many of the methods described in both tables have been used routinely by EPA and many states for years. Electronic communication mechanisms may not be used routinely but their use is growing.

Table 1.—Stakeholder and Public Involvement Methods Used by EPA and the States for Developing Significant Information Products
[These may vary from state to state]
Stakeholder/public involvement method | Description
A. Public meeting | Presentation by EPA or states before a public gathering, often with a question and answer session.
B. Stakeholder meeting | Brief discussion with representatives of various government agencies and/or organizations, including industry, trade associations, environmental organizations, local elected officials, community activists, etc. with a vested interest in the development and use of a significant information product.
C. Forum/workshop | Discussion with stakeholders and/or the public that generally allows for more in-depth discussion than a public or stakeholder meeting.
D. Focus group | Discussion with potential users about the usefulness of one or more specific products, in which participants generally offer suggestions for improvements.
E. Stakeholder or expert consultation | Extended communication with representatives of various government agencies and/or organizations as subject experts, regarding specific technical issues or data related to the product.
F. Survey/questionnaire | Quantitative and/or qualitative input sought in writing from the public and/or stakeholders about a product from which key comments can be extrapolated.
G. Federal Register notice | Official method of notifying the public about a particular product, which often includes a formal comment process. Printed daily by the U.S. Government.
H. E-mail/Listserv | E-mail = electronic messages distributed through a computer network or the Internet. Listserv = e-mail-based mailing list for a group of people with a common interest. E-mail and listservs can be used for distributing information about products, and seeking input from stakeholders and potential product users.
I. Electronic bulletin board | Electronic means of publically posting questions and comments submitted by stakeholders and/or the public.
J. Web site/Web page | Web site = groups of Web pages. Web page = electronic means of disseminating information about one or more topics and/or products globally on the World Wide Web. Also can be used to collect user comments.
K. Hotline/Public Information Line | Telephone number supplied by EPA/states that allows for direct answering of caller questions.
L. Media advertisement | Announcement distributed through various media outlets that features a few key points about the product to spark interest in it.
M. Information fact sheet and other similar materials | Brief description of the product (generally one page), sometimes inviting public comments.
N. Mailing to stakeholders | Information about the product targeted to specific stakeholders and/or potential product users.

Table 2.—Response Mechanisms Used by EPA and the States
[These may vary from state to state]
A. Verbal comment(s) recorded during a public meeting, forum, workshop, focus group session or stakeholder meeting.
B. Telephone hotline.
C. Telephone survey/questionnaire.
D. Written comment(s) submitted for a public meeting, forum, workshop, focus group session or stakeholder meeting.
E. Formal written comment(s) sent to EPA in response to a Federal Register Notice.
F. Written comment(s) sent to EPA by Fax, e-mail, listserv e-mail, or through e-mail to an electronic bulletin board.
G. Feedback form located on EPA or state Web site.
H. Survey and/or questionnaire distributed by mail, e-mail or Fax.

The IPB will list the stakeholder and public involvement method(s) expected to be used for each of the products offering stakeholder and/or public involvement opportunities. Table 3 below provides a template that EPA and the states plan to use for each of the significant information products listed in the IPB.

Table 3.—Information That Will Be Included in the IPB about Significant Information Products that Provide an Opportunity for Stakeholder and/or Public Involvement
Title | [The name of the significant information product. Please note that titles may be subject to change for some products under development.]
Description | [A brief explanation that provides a basic understanding of the purpose and content of the significant information product.]
Contact | [Phone number to use to get further information about the product and/or the stakeholder/public involvement process. When practical, a specific contact name will be listed and/or an e-mail address.]
Expected Release Date | [When the product is expected to be made available to the public. Please note that such dates are the best estimates available to date; schedules are subject to change.]
Comment Period | [The start and end date of the public comment period if applicable; OR the date that the comment period ends if the comment period has already begun. Please note that the public comment period may differ from the time frames provided for other types of stakeholder/public involvement.]
Stakeholder/Public Involvement Methods | [The method(s) that EPA or the states plans to use to obtain stakeholder/public input and/or feedback on a specific significant information product—see examples of Stakeholder and Public Involvement Methods in Table 1 above.]
How to Access the Draft Product (if available) | [The various electronic and non-electronic ways that stakeholders and the public can use to access a draft copy and/or prototype of the product.]

At What Stage in the Development of a Product Can I Get Involved?

The time frame for the development of each significant information product varies. Thus the time frame for stakeholder and/or public involvement varies as well. Some software models, for example, require early and close collaboration with one or more groups of stakeholders in order to produce an initial version of the product. In some cases, various methods of stakeholder and/or public involvement may be used during different stages of a product's development. Some input may be sought early in the development of a product to determine how best to meet the needs of the product's expected primary users. Then at a later stage in the product's development, the product developer may obtain additional feedback on a draft copy or product prototype.

As explained above, EPA and the states will provide general information in the IPB about the timing of the product's development, along with the time frame for submitting public comments. Specific information regarding dates for public meetings, workshops, forums, etc. may be obtained about individual products by contacting the number listed under each product description.

Can I View a Draft Copy or Prototype of Products Under Development?

Where possible, efforts will be made on the IPB Web site to include Web site links to draft copies and/or prototypes of EPA and some state products under development. Those without access to the Internet may be able to obtain hard copies of draft products listed in the IPB by contacting the number listed for obtaining further information. Please note that there will not always be a draft copy or prototype available for every significant information product under development.

Stakeholder and Public Involvement Opportunities for State Significant Information Products

The states generally use the same type of stakeholder and public involvement methods as EPA, which are described in Tables 1 and 2. While states may provide a range of opportunities for stakeholder and public involvement, not all opportunities listed in Tables 1 and 2 may be available in all states. As with EPA products, specific information regarding dates for public meetings, workshops, forums, and other public/stakeholder involvement activities may be obtained through the contact information listed under appropriate product descriptions.

VII. IPB Archive and Notification of Product Releases

The IPB will develop an archival database that will include previous IPB publications. The archive will be searchable by product title and date. In addition, each IPB publication will list those products that were completed and released since the last update.

VIII. Legal Status

The inclusion of a particular significant information product in the IPB, in and of itself, does not confer any special legal status on the product. The IPB is not intended to be used to publish regulatory matters requiring publication in the Federal Register.

IX. IPB Publication Schedule

The IPB will be available on the Web [www.epa.gov/ipbpages] and in hard copy format. Both the Web site and the hard copy version will be published every four months. Hard copies will be made available through U.S. mail and/or Fax-on-Demand (202-651-2084) upon request. Contact numbers will be supplied in each IPB publication.

X. Evaluation of IPB

EPA and ECOS recognize the importance of, and are committed to, evaluating the effectiveness of the IPB. Within two years of the publication of the first full IPB volume this summer, we will evaluate whether the IPB is improving the public's access to information products under development. The resulting documentation will be publicly available.

XI. Response to Comments on the Draft IPB Framework Plan

The following Response to Comments section provides EPA's responses to the concerns raised by commenters regarding the draft IPB Framework Plan, published in the Federal Register on November 30, 2000 (65 FR 71314). EPA received comments from five organizations and individuals on the draft IPB Framework Plan. Copies of the original comments can be viewed on the Interim IPB Web site at [www.epa.gov/ipbpages].

1. Support for IPB

A. One commenter stated that the value of the IPB had already been established since it enabled them to identify several information products under development on the Interim IPB Web site that they would not have known about otherwise. Another comment expressed support for the IPB as a new public access tool for accessing, analyzing and using information collected by EPA.

Response: Thank you for your comment.

2. Products Defined as “Significant Information Products”

A. One commenter requested that we add the following to the definition of “significant information product”: “Products that characterize the performance of particular companies, facilities or products, or that characterize environmental conditions in particular communities.”

Response: The definition of “significant information product” has been revised as follows: “A significant information product uses national or regional data to describe environmental conditions, trends, and/or the performance of companies, facilities and communities.” While a significant information product may contain data about individual facilities, the data are presented on a national or regional scale, and the product does not solely characterize a particular company, facility or community.

B. One commenter requested that we include compliance guides in the IPB, particularly since the July 1999 Aiming for Excellence report announced a new commitment to develop compliance guides for new, “economically significant” regulations, and to seek input from States, the regulated community and other stakeholders. The commenter further noted that compliance guides should be interpreted broadly to include products like the Sector Facility Indexing Project. Two commenters requested that we include citizen guides, training materials and annual reports in the IPB. They argued that these type of products should be evaluated on their individual merits. One comment stated that the Risk Screening Environmental Indicators project might be considered a citizen guide.

Response: Neither compliance guides, citizen guides or training materials use national or regional data to describe environmental conditions, trends, and/or the performance of companies, facilities and communities. Thus, none of these information products fall within the definition of “significant information products.” Compliance guides help the regulated community understand and comply with their obligations under EPA regulations. Citizen guides are generally used to explain EPA's regulations and programs, and training materials are generally used to train people about such regulations and programs. The Sector Facility Indexing Project meets the definition of a significant information product; it is not a compliance guide. The Risk Screening Environmental Indicators project also meets the definition; it is not a citizen guide.

The framework plan explains which types of annual reports will and will not be listed in the IPB.

C. Two commenters recommended that we exclude from the definition of significant information products, analytic tools used by EPA to create analyses and comparisons.

Response: The IPB includes significant information products that are developed for use by the public. It is not intended to include products used for internal EPA or state purposes only.

D. Two commenters recommended that we exclude from the definition of significant information products, “raw” underlying data, such as data collected under TRI or the Biennial Reporting System.

Response: “Raw” data are not expected to be published separately in the IPB, and even if they were, they would be subject to quality assurance and error correction procedures, but not stakeholder or public review. Often, however, raw data are incorporated into the kind of information products that will be listed in the IPB. Stakeholder and/or public involvement opportunities are often provided during the development of these products.

E. Two commenters recommended that we exclude from the definition of significant information products, data elements whose specific purpose is to identify and locate specific facilities or entities that provide environmental reports to EPA and the states.

Response: Facility identification data and other data elements are not expected to be included in the IPB per se. However, the products that will be listed in the IPB may contain data elements for facility identification. EPA and the States may receive comments about these data elements during the product development process.

F. Two commenters recommended that we exclude from the definition of significant information products, information describing imminent public health or environmental threats.

Response: This language has been added to the list of items excluded from the IPB.

G. One commenter stated that the definition of a significant information product was unclear, especially with the long list of excluded products.

Response: The definition of “significant information product” has been revised to make it clearer (see IV. Criteria for Including Products in the IPB above). The lists were intended to provide useful examples of the types of products that will and will not be included in the IPB, and to help provide context for the definition. We have thus retained them in the final framework plan. However, the lists are not all-inclusive. The major factor that will be used to determine whether or not an item is included in the IPB is whether or not it meets the definition of “significant information product.”

H. One commenter requested that we include some examples of products that meet the definition of “significant information product.”

Response: The final framework plan includes several examples of the types of products that are considered to be significant information products. A longer list of significant information products is available for viewing on the Interim IPB Web site at www.epa.gov/ipbpages.

3. Delay of Product Completion

A. Two commenters requested that the framework plan include a statement that the IPB will not delay the release of any information product. One commenter stated that it might be necessary to release a product upon short notice, before it can be listed in the IPB. Another commenter asked if EPA would delay a product's release, if for some reason the product was not listed in the IPB prior to completion. If not, how could the IPB be a “comprehensive vehicle?”

Response: The IPB is not expected to delay release of a product that has gone through the appropriate product development process. Neither is there a legal requirement that products be listed in the IPB prior to release. EPA will make case-by-case determinations regarding whether to delay releasing a significant information product not yet listed in the IPB. Significant information products released since the last IPB publication will be listed in the following IPB publication (see comment 9. C. below).

4. Stakeholder/Public Involvement

A. One commenter recommended that EPA clarify that the IPB is not intended to replace or amend formal notification and public participation procedures. The comment further stated that all questions of participation should be dealt with under other EPA initiatives.

Response: The primary purpose of the IPB is to provide pre-publication notification of products under development. While some information is provided in the IPB about the public and stakeholder involvement processes used by EPA and some states, the IPB is not intended to replace any of EPA's or the states' formal notification and public involvement processes.

B. One commenter stated that the IPB should include, at minimum, the following options related to public participation for all products listed in the IPB: (1) A contact for each product and an opportunity for stakeholders to submit written or oral comments, and (2) an electronic bulletin board so that comments can be viewed by everyone. Furthermore, the commenter stated that IPB Web site should be the home for electronic comments about individual products, placed in a format that encourages stakeholder input and “cyber-discussions.”

Response: As stated above, the primary purpose of the IPB is to provide pre-publication notification of products under development. The IPB is not intended to be the vehicle that stakeholders and the public use to provide comments about individual products. Contact information will be provided so that readers can contact the originating EPA or state program office about a particular product. We believe that such an approach provides the fastest, most direct and comprehensive way for stakeholders and the public to provide input into the development of significant information products, and allows the IPB to be an efficient entry point for the process.

C. One commenter asked if a product undergoing modification would be subject to stakeholder and/or public involvement procedures. Two examples were included: (1) adding a GIS front end to OTIS from OECA, and (2) adding a new TRI report to Envirofacts.

Response: Only products that meet the definition for significant modifications will be included in the IPB. Some of the products listed in the IPB that are undergoing significant modifications will provide opportunities for stakeholder and/or public involvement. Data added through the formal regulatory review process, e.g., lead reports added to TRI, do not qualify for inclusion in the IPB.

D. Two commenters requested that we define stakeholder broadly to include any member of the general public. One further stated that the general public has a vested interest in the outcomes of environmental policies and programs.

Response: The IPB Framework Plan applies to both stakeholders and the general public, though these terms are not interchangeable. We agree that the general public has a vested interest in the outcomes of environmental policies and programs, and we are working on a variety of efforts to address public involvement. (See VI above.)

E. One commenter requested that we seek input early in the development of a product from both primary and secondary users.

Response: The primary purpose of the IPB is to provide pre-publication notification of products under development. Since products differ widely in design and purpose, they are not developed in a uniform way. As described under VI. Stakeholder and Public Involvement Opportunities above, EPA and the states employ various stakeholder and public involvement methods for individual products, which differ in scope and timing.

5. Publication Frequency and Dissemination

A. One commenter stated that the IPB should be published quarterly since many information products can be developed much more quickly than rulemakings, which are listed semi-annually in EPA's Regulatory Agenda. Another commenter stated that the draft IPB Framework Plan was unclear about whether “soon to be released” products would be listed in the IPB every 3 or 6 months.

Response: In response to comments submitted, we decided to change the frequency at which the IPB will be published to every four months. This will eliminate the originally proposed hybrid of producing a full publication every six months and partial updates every three months. We recognize that such an approach could have been confusing for many IPB readers, and that a shorter interval between full publications would be helpful.

B. One commenter stated that the IPB should be a living document that can be modified at any time. The comment also included the following statements: “The digital divide problem should not restrain EPA from updating the IPB regularly. Those without a computer can access the Web site in public libraries. Web updates serve computer and non-computer users better than ‘a policy that simply defers public release of information.’ There is no reason to withhold information about new products under development until the next IPB cycle occurs.”

Response: Collecting and assembling the information necessary to produce every IPB publication is a resource intensive effort. EPA does not have the resources it would take to adequately update the IPB more than every four months. In addition, we believe that many users lack the resources necessary to keep a daily watch on the IPB Web site for constant changes. Thus, we believe it is best to publish the IPB at regular, reliable intervals to reduce the burden on the public and the Agency.

C. Two commenters supported the draft IPB Framework Plan's proposal to make the IPB available in both print and electronic forms as a means to “pre-empt ‘digital divide’ issues.” One commenter opposed such an approach, stating that the IPB should be maintained exclusively as an electronic service, in order to save trees and keep costs down. This commenter asked if the IPB were to be made available in hard copy, where the hard copies would be placed.

Response: EPA wants to encourage electronic access to the IPB. However, we believe that it is important to provide hard copies of the IPB to those without access to a computer or the Internet, so that they have equal access to information about significant information products under development by EPA and some of the states. Hard copies will be produced at the same time the IPB Web site is updated and will be made available upon request through Fax-on-Demand or by mail.

D. Two commenters requested that EPA disseminate the IPB via email.

Response: EPA does not plan to distribute the IPB via email. EPA believes that the IPB Web site will be easily accessible electronically through various links on EPA's Web site, as well through the ECOS Web site and several state Web sites. IPB updates will also be made available by request through Fax-on-Demand and by mail.

6. Interim IPB List

A. One commenter stated that “Some important initiatives are missing from the Interim IPB, such as ‘Window to My Environment,’ as well as some products that are undergoing major modifications, such as various OW watershed-related Web sites, and potentially significant changes to AIRNOW and EMPACT.”

Response: The Interim IPB Web site was intended to provide an “initial” list of significant information products and did not provide as much detail as will be provided in the full IPB. “Window to My Environment” was included in the Interim IPB as part of the description for the “Information Integration Initiative.”

Although some design features were changed for AIRNOW on EPA's Web site this past Fall, no new significant information or data sets were added. Thus, AIRNOW was not included in the Interim IPB.

The EMPACT program is not a significant information product. It is an EPA program that helps communities to collect, manage, and present real-time environmental information to the public. EPA has produced several significant information products through the EMPACT program. In addition, many locally sponsored projects have been funded through EPA's EMPACT Metro Grant Projects Initiative. Only future non-grant-funded EMPACT products will be listed in the IPB, as explained below under 6.C.

B. One commenter asked why the TRI annual report was included in the Interim IPB, but not the Fuel Economy Guide, and why the New Jersey Pesticide Exposure Study was included, but no other such local/state studies.

Response: The only significant information products listed in the Interim IPB were those that were to be released between the time when the Web site was launched in October 2000 and Summer 2001, when the first, full IPB was expected to be launched. The Fuel Economy Guide was not included in the Interim IPB because it was released in September 2000, prior to the release of the Interim Web site. Future annual publications of the Fuel Economy Guide will be included in the IPB.

The New Jersey Pesticide Exposure Study was included in the Interim IPB because it was originally expected to be used as a pilot for a nation-wide project. However, expansion of the project will depend upon results from field tests conducted in the New Jersey project. We will make case-by-case determinations regarding the likelihood that a product being piloted or tested in a particular state will eventually be expanded nation-wide, and thus eligible for inclusion in the IPB.

C. One commenter stated that projects that cross several states or regions, like many of the EMPACT projects, should be included.

Response: Many EMPACT products are funded through EPA grants and cooperative agreements. According to the EPA financial assistance regulations, products produced under grants and cooperative agreements belong to the financial assistance recipient, not EPA. The Agency can use a product produced with financial assistance for federal purposes but cannot unilaterally decide on the content of the product. Thus products produced with EPA financial assistance will not be included in the IPB. Non-grant-funded EMPACT products that cross several states or regions and meet the definition of significant information product will be included in the IPB.

7. Special Status/Legal Standing

A. One commenter recommended that EPA clearly state that products included in the IPB have no special status or standing beyond their inclusion in the IPB, and that they will not be subject to additional review by the agency, the courts or other entities beyond the processes for public participation and review already in place.

Response: The inclusion of a particular information product in the IPB, in and of itself, does not confer any special legal status on the product. In addition, it should be noted that the IPB is not intended to be used to publish regulatory matters requiring publication in the Federal Register.

8. State Participation

A. One commenter asked if the states that are participating in the IPB will be listed as participants. The commenter further noted that not all states participate in ECOS.

Response: Any state can participate in the IPB, regardless of whether or not it is a member of ECOS. State participation is, however, entirely voluntary. The IPB will include only those significant information products produced by one or more states, that are regional or national in scope and include aggregated data from more than one state.

9. Product Listings and Descriptions

A. One commenter requested that all product descriptions include a brief statement about the origins of each product, and statutory citations where appropriate. The commenter recommended that it would also be helpful to include some type of policy context/link to an aspect of EPA's mission, and a reference to appropriate GPRA strategic objective.

Response: The IPB is a notification mechanism. It is not intended to provide detailed information about each product. Contact information will be provided for all those interested in getting more in-depth information about individual products.

B. One commenter recommended that in addition to including product prototypes for review and comment, EPA should post explanations of methodologies used in modeling components and/or analytical tools.

Response: As explained above, the IPB is not intended to provide detailed information about each product. Contact information will be provided for all those interested in getting more in-depth information about individual products.

C. One commenter requested that the IPB allow users to view already-released, as well as upcoming significant information products. The commenter further stated: “We support initiatives to provide more finder tools to the public, such as an index of information products that would be more comprehensive in scope and an information locator system.”

Response: The primary purpose of the IPB is to provide pre-publication notification of significant information products under development. The IPB is not intended to provide a list of EPA's completed information products. However, EPA plans to archive previous IPB publications, and each new IPB publication will list those products completed and released since the previous update.

D. One commenter recommended that the IPB be edited in order to “normalize the submissions” and ensure completeness.

Response: The EPA or state program responsible for producing an individual information product is most familiar with it, and is thus best able to describe it. However, EPA's Office of Environmental Information will review and edit items to ensure that they are written in plain English and use a consistent format.

10. IPB and the EPA Web Site

A. One commenter recommended that the IPB serve as a “hub” site, i.e., a gateway to other information and web pages, with links to key supporting documents and program descriptions associated with the listed documents.

Response: The IPB is not intended to be an EPA hub site. However, links to key supporting documents will be provided as appropriate.

B. One commenter stated that EPA's home page should be improved to better track new developments at the Agency and on EPA's various Web sites.

Response: The IPB is a separate initiative from the EPA home page. EPA has several initiatives in place to improve the usefulness of the EPA homepage, as well as the Agency's various Web sites.

Dated: June 4, 2001.
Elaine G. Stanley,
Director, Office of Information Analysis and Access.

[FR Doc. 01-16808 Filed 7-3-01; 8:45 am]

BILLING CODE 6560-50-P